DEPARTMENT OF ENERGY

Federal Energy Regulatory Commission

Combined Notice of Filings #2

Take notice that the Commission received the following electric rate filings:

Docket Numbers: ER16-372-002.

Applicants: PJM Interconnection, L.L.C.

Description: Compliance filing: Compliance Filing Implementing Hourly Offers and Cost-Based Offer Requirements to be effective 12/31/9998.

Filed Date: 8/16/16.

Accession Number: 20160816-5214.

Comments Due: 5 p.m. ET 9/6/16.

Docket Numbers: ER16-2119-001.

Applicants: Hartree Partners, LP.

Description: Tariff Amendment: Hartree Partners, LP—Amended MBRA Baseline Filing to be effective 8/16/2016.

Filed Date: 8/16/16.

Accession Number: 20160816-5192.

Comments Due: 5 p.m. ET 9/6/16.

Docket Numbers: ER16-2431-000.

Applicants: CP Power Sales Nineteen, L.L.C.

Description: Tariff Cancellation: Notice of Cancellation to be effective 8/17/2016.

Filed Date: 8/16/16.

Accession Number: 20160816-5190.

Comments Due: 5 p.m. ET 9/6/16.

Docket Numbers: ER16-2432-000.

Applicants: CP Power Sales Twenty, L.L.C.

Description: Tariff Cancellation: Notice of Cancellation to be effective 8/17/2016.

Filed Date: 8/16/16.

Accession Number: 20160816-5191.

Comments Due: 5 p.m. ET 9/6/16.

Docket Numbers: ER16-2433-000.

Applicants: Southern California Edison Company.

Description: § 205(d) Rate Filing: SCE's Revision to Formula Rate Tariff Authorized PBOPs Expense Amounts to be effective 1/1/2016.

Filed Date: 8/16/16.

Accession Number: 20160816-5201.

Comments Due: 5 p.m. ET 9/6/16.

Docket Numbers: ER16-2434-000.

Applicants: Copper Mountain Solar 4, LLC.

Description: § 205(d) Rate Filing: Notice of Non-Material Change in Status to be effective 5/20/2016.

Filed Date: 8/16/16.

Accession Number: 20160816-5223.

Comments Due: 5 p.m. ET 9/6/16.

Docket Numbers: ER16-2435-000.

Applicants: Mesquite Solar 2, LLC.

Description: § 205(d) Rate Filing: Notice of Non-Material Change in Status to be effective 5/20/2016.

Filed Date: 8/16/16.

Accession Number: 20160816-5227.

Comments Due: 5 p.m. ET 9/6/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 16, 2016.
Kimberly D. Bose,
Secretary.

[FR Doc. 2016-19963 Filed 8-19-16; 8:45 am]

BILLING CODE 6717-01-P